DEPARTMENT OF ENERGY

Federal Energy Regulatory Commission

[Docket No. RM06-10-000]

New PURPA Section 210(m) Regulations Applicable to Small Power Production and Cogeneration Facilities; Notice of New Docket Prefix “QM”

December 21, 2006.

On October 20, 2006, the Commission issued Order No. 688¹ which would modify the mandatory power purchase obligation for electric utilities under the Public Utility Regulatory Policies Act of 1978 (PURPA). Order No. 688 implements a mandate of the Energy Policy Act of 2005. The final rule, “New PURPA Section 210(m) Regulations, Applicable to Small Power Production and Cogeneration Facilities,” takes effect 60 days after publication in the Federal Register or January 2, 2007.

Notice is hereby given that a new docket prefix “QM” has been established for certain applications under Order No. 688. A new “QM” docket number will be assigned to applications filed under the following sections of the Commission's regulations:

1. 18 CFR 292.310: Application by an electric utility for a Commission determination that they may be relieved of the PURPA obligation to purchase power from qualifying facilities on a service territory-wide basis;

2. 18 CFR 292.311: Application by a qualifying facility, State agency, or other affected person for a Commission order reinstating the utility's obligation to purchase;

3. 18 CFR 292.312: Application by an electric utility for relief from the obligation to sell power on a service territory-wide basis, or a single qualifying facility basis; and

4. 18 CFR 292.313: Application by a qualifying facility, a State agency, or other affected person for a Commission order reinstating the electric utility's obligation to sell.

Filing guidelines for “QM” filings are attached to this notice and will be posted on the Commission's Web site at http://www.ferc.gov/help/how-to.asp. The Commission encourages electronic filing of all QM applications, provided the content is entirely in the public domain. If the application contains Privileged or Critical Energy Infrastructure Information, you must file on paper.

Magalie R. Salas,
Secretary.

¹ New PURPA Section 210(m) Regulations Applicable to Small Power Production and Cogeneration Facilities, FERC Statutes and Regulations ∥ 31,233 (2006) (Order No. 688), 71 FR 64,342 (2006).

[FR Doc. E6-22364 Filed 12-28-06; 8:45 am]

BILLING CODE 6717-01-P